POSTAL SERVICE

United States Postal Service Board of Governors; Sunshine Act Meeting

Board Votes To Close October 12-14, 2009, Meeting

At its closed session meeting on September 22, 2009, the Board of Governors of the United States Postal Service voted unanimously to close to public observation its meeting to be held October 12-14, 2009, at the Bolger Center for Leadership Development in Potomac, Maryland. The Board determined that no earlier public notice was possible.

GENERAL COUNSEL CERTIFICATION: The General Counsel of the United States Postal Service has certified that the meeting is properly closed under the Government in the Sunshine Act.

TIMES AND DATES:

5 p.m., Monday, October 12, 2009;

8 a.m., Tuesday, October 13, 2009; and

8 a.m., Wednesday, October 14, 2009.

MATTERS TO BE CONSIDERED:

Monday, October 12 at 5 p.m. (Closed)

1. Strategic Issues.

2. Financial Matters.

3. Pricing.

4. Personnel Matters and Compensation Issues.

5. Governors' Executive Session—Discussion of prior agenda items and Board Governance.

Tuesday, October 13 at 8 a.m. (Closed)

Continuation of Monday's agenda.

Wednesday, October 14 at 8 a.m. (Closed)—(if needed)

Continuation of Monday's agenda.

Contact Person for More Information: Julie S. Moore, Secretary of the Board, U.S. Postal Service, 475 L'Enfant Plaza, SW., Washington, DC 20260-1000. Telephone (202) 268-4800.

Julie S. Moore,
Secretary.

[FR Doc. E9-25364 Filed 10-16-09; 4:15 pm]

BILLING CODE 7710-12-P